DEPARTMENT OF COMMERCE

National Oceanic and Atmospheric Administration

[RTID 0648-XF057]

Caribbean Fishery Management Council 187th Public Hybrid Meeting

AGENCY: National Marine Fisheries Service (NMFS), National Oceanic and Atmospheric Administration (NOAA), Commerce.

ACTION: Notice of public hybrid meeting (in person/virtual).

SUMMARY: The Caribbean Fishery Management Council (CFMC) will hold the 187th public hybrid meeting to address the items contained in the tentative agenda included in the SUPPLEMENTARY INFORMATION.

DATES: The 187th CFMC public hybrid meeting will be held on August 12, 2025, from 9:00 a.m. to 4:30 p.m., AST. A closed session will be held on August 12, 2025, from 4:45 p.m. to 5:30 p.m., AST, to discuss personnel matters. The Council will reconvene on August 13, 2025, from 9:00 a.m. to 5:00 p.m., AST.

ADDRESSES: The 187th CFMC meeting will be held at Embassy Suites Hotel, Tartak Street, Carolina, Puerto Rico.

You may join the 187th CFMC public hybrid meeting via Zoom, from a computer, tablet or smartphone by entering the following address:

Join Zoom Meeting: https://us02web.zoom.us/j/83060685915?pwd=VmVsc1orSUtKck8xYk1XOXNDY1ErZz09.

Meeting ID: 843 2813 0219.

Passcode: 856050.

One tap mobile:

+17879451488,,83060685915#,,,,,,0#,,995658# Puerto Rico

+17879667727,,83060685915#,,,,,,0#,,995658# Puerto Rico

Dial by your location:

+1 787 945 1488 Puerto Rico

+1 787 966 7727 Puerto Rico

+1 939 945 0244 Puerto Rico

Meeting ID: 830 6068 5915.

Passcode: 995658.

In case there are problems, and we cannot reconnect via Zoom, the meeting will continue using GoToMeeting.

You can join the meeting from your computer, tablet, or smartphone https://global.gotomeeting.com/join/971749317. You can also dial in using your phone. United States: +1 (408) 650-3123 Access Code: 971-749-317.

FOR FURTHER INFORMATION CONTACT: Miguel A. Rolón, Executive Director, Caribbean Fishery Management Council, 270 Muñoz Rivera Avenue, Suite 401, San Juan, PR 00918-1903; telephone: (787) 398-3717.

SUPPLEMENTARY INFORMATION: The following items included in the tentative agenda will be discussed:

August 12, 2025

9:00 a.m.-9:30 a.m.

—Call to Order

—Roll Call

—Adoption of Agenda

—Election of Officials

—Consideration of 186th CFMC Meeting Verbatim Transcription

—Executive Director's Report

9:30 a.m.-10:30 a.m.

—Fishery Management Plans Amendments, Actions and Priorities Update for 2025—María López-Mercer, NOAA Fisheries, SERO

—Magnuson-Stevens Fisheries Conservation and Management Act Requirements for Stocks in Need of Conservation and Management, and Discussion of Modifications to the Reef Fish Fishery Management Units (FMUs)—Sarah Stephenson, NOAA Fisheries, SERO

10:30 a.m.—10:40 a.m.

—Coffee Break

10:40 a.m.-11:15 a.m.

—Continue Reef Fish FMUs Discussion

11:15 a.m.-12:15 p.m.

—E.O. 14276 Restoring America's Seafood Competitiveness—Recommendations from Ad Hoc Committee

12:15 p.m.-1:15 p.m.

—Lunch Break

1:15 p.m.-2:15 p.m.

—CFMC's Response to NOAA Fisheries on E.O. 14276

2:15 p.m.-3:15 p.m.

—2025 Annual Catch Limit Monitoring Updates—Andy Strelcheck, NOAA Fisheries, SERO

—Evaluating Alternative Accountability Measures for the Spiny Lobster Stock in Puerto Rico Federal Waters, NOAA Fisheries, SERO

3:15 p.m.-3:30 p.m.

—Coffee Break

3:30 p.m.-4:15 p.m.

—Discussion on Potential Options for Revising Accountability Measures for Pelagic Species in US Caribbean Federal Waters—NOAA Fisheries, SERO

4:15 p.m.-4:30 p.m.

—Public Comment Period (5-minute presentations)

4:30 p.m.

—Adjourn for the Day

4:45 p.m.-5:30 p.m.

—Closed Session

August 13, 2025

9:00 a.m.-9:45 a.m.

—Southeast Fishery Science Center Updates—Kevin McCarthy, Caribbean Fisheries Branch, NOAA Fisheries

—SEDAR 84

—SEDAR 91

—Upcoming SEDAR Procedural Work

—Ongoing Activities (Data Triage and History of Catch Reports)

9:45 a.m.-10:30 a.m.

—Inflation Reduction Act (IRA) Funded Projects Update—Martha Prada, IRA Coordinator

—Ecosystem-Based Fisheries Management Technical Advisory Panel (EBFM TAP) Update—Sennai Habtes, Chair

—Ecosystem Status Report—Mandy Karnauskas—SEFSC, NOAA Fisheries

—Scientific and Statistical Committee (SSC) Update—Vance Vicente, Chair

10:30 a.m.-11:00 a.m.

—Outreach and Education Advisory Panel (OEAP) Report—Jannette Ramos García, Chair

—CFMC Social Networks Report—Cristina Olán Martínez, CFMC

11:00 a.m.-11:15 a.m.

—Coffee Break

11:15 a.m.-12:00 p.m.

—CFMC Liaison Officers Reports (10 minutes each)

—St. Croix, U.S.V.I.—Liandry De La Cruz

—St. Thomas/St. John, U.S.V.I.—Nicole Greaux

—Puerto Rico—Wilson Santiago

12:00 p.m.-1:30 p.m.

—Lunch Break

1:30 p.m.-2:00 p.m.

—Recreational Fisheries Engagement and Outreach Initiatives—Helena Antoun, NOAA Fisheries

2:00 p.m.-2:45 p.m.

—District Advisory Panel (DAP) Reports (15 mins each)

—St. Thomas, U.S.V.I.—Julian Magras, Chair

—St. Croix, U.S.V.I.—Gerson Martinez, Chair

—Puerto Rico—Nelson Crespo, Chair

2:45 p.m.-3:15 p.m.

—Revisit CFMC Priorities for 2025-2026

3:15 p.m.-3:30 p.m.

—Coffee Break

3:30 p.m.-4:10 p.m.

—Enforcement Reports (10 minutes each)

—Puerto Rico DNER

—U.S.V.I. DPNR

—U.S. Coast Guard

—NOAA Fisheries Office of Law Enforcement

4:10 p.m.-4:30 p.m.

—Advisory Bodies Membership

4:30 p.m.-5:00 p.m.

—Other Business

—Letter to the CFMC on the Use of Fish Traps in Puerto Rico—Mr. Edwin Font

—Public Comment Period (5-minute presentation)

—Next Meeting

5:00 p.m.

—Adjourn

NOTE (1): Other than starting time and dates of the meetings, the established times for addressing items on the agenda may be adjusted as necessary to accommodate the timely completion of discussion relevant to the agenda items. To further accommodate discussion and completion of all items on the agenda, the meeting may be extended from or completed before the date established in this notice. Changes in the agenda will be posted to the CFMC website, Facebook, Twitter and Instagram as practicable.

NOTE (2): Financial disclosure forms are available for inspection at this meeting, as per 50 CFR part 601.

The order of business may be adjusted as necessary to accommodate the completion of agenda items. The meeting will begin on August 12, 2025, at 9:00 a.m., AST, and will end on August 13, 2025, at 5:00 p.m., AST. Other than the start time on the first day of the meeting, interested parties should be aware that discussions may start earlier or later than indicated in the agenda, at the discretion of the Chair.

Special Accommodations:

For any additional information on this public hybrid meeting, please contact Diana Martino, Caribbean Fishery Management Council, 270 Muñoz Rivera Avenue, Suite 401, San Juan, PR, 00918-1903; telephone: (787) 226-8849.

Authority: 16 U.S.C. 1801 et seq.

Dated: July 22, 2025.
Rey Israel Marquez,
Acting Deputy Director, Office of Sustainable Fisheries, National Marine Fisheries Service.

[FR Doc. 2025-14042 Filed 7-24-25; 8:45 am]

BILLING CODE 3510-22-P